DEPARTMENT OF COMMERCE

National Oceanic and Atmospheric Administration

Proposed Information Collection; Comment Request; Marine Recreational Fishing Expenditure Survey

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration written comments must be submitted on or before April 24, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Sabrina Lovell, Economist, Office of Science and Technology, NMFS, 1315 East-West Hwy., Silver Spring, MD 20910. Tel: (301) 427-8153 or sabrina.lovell@noaa.gov.

SUPPLEMENTARY INFORMATION:

I. Abstract

This request is for a regular submission, extension of a current information collection.

As specified in the Magnuson-Stevenson Fishery Conservation and Management Act of 1996 (and reauthorized in 2007), the National Oceanic and Atmospheric Administration's (NOAA's) National Marine Fisheries Service (NMFS) is required to enumerate the economic impacts of the policies it implements on fishing participants and coastal communities. The objective of the survey is to collect information on marine (saltwater) recreational fishing trip expenditures and durable good expenditures made by marine recreational anglers. The voluntary survey has two parts that may be conducted either jointly during the same calendar year or in separate years. The trip expenditure portion will ask anglers about the expenses incurred on their most recent marine recreational fishing trip. The durable goods portion will ask anglers about their purchases of durable goods such as fishing gear, boats, vehicles, and second homes over a 12-month period. The expenditure data collected in this regular survey is widely used by both federal, state, and non-governmental organizations for research and analysis regarding the economic importance and contributions of marine recreational fishing to each coastal state and nationwide. The NMFS Office of Science and Technology conducts the survey and publishes the results in both technical reports and the annual `Fisheries Economics of the U.S.' report series.

II. Method of Collection

The trip expenditure portion of the survey may be conducted using in-person interviews at fishing sites or using email or mail invitations to an online web survey (with a paper version of the survey for anglers without internet access). The durable goods expenditure portion will use email or mail invitations to an online web survey (with a paper version of the survey for anglers without internet access).

III. Data

OMB Control Number: 0648-0693.

Form Number(s): None.

Type of Review: Regular submission (extension of a current information collection).

Affected Public: Individuals.

Estimated Number of Respondents: 88,350: 13,350 for durable good expenditure survey; 75,000 for trip expenditure survey.

Estimated Time per Response: Durable goods expenditure survey, 15 minutes; trip expenditure survey 5 minutes.

Estimated Total Annual Burden Hours: 3,346.

Estimated Total Annual Cost to Public: $0 in record keeping and reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-03629 Filed 2-21-20; 8:45 am]

BILLING CODE 3510-22-P